DEPARTMENT OF ENERGY

Federal Energy Regulatory Commission

[Docket No. CP19-78-000]

PennEast Pipeline Company, LLC; Notice of Availability of the Environmental Assessment for the Proposed Penneast Pipeline Project Amendment

The staff of the Federal Energy Regulatory Commission (FERC or Commission) has prepared an environmental assessment (EA) for the PennEast Pipeline Project Amendment (Amendment Project), proposed by PennEast Pipeline Company, LLC (PennEast) in the above-referenced docket. PennEast proposes to amend their certificate of public convenience and necessity for the previously approved PennEast Pipeline Project (Docket No. CP15-558-000) that was issued by the Commission on January 19, 2018. The Amendment Project would include four modifications to adjust certain aspects of the design, alignment, workspace, and construction methods for the PennEast Pipeline Project in Luzerne, Carbon, Monroe, and Northampton counties, Pennsylvania.

The EA assesses the potential environmental effects of the construction and operation of the Project in accordance with the requirements of the National Environmental Policy Act (NEPA). The FERC staff concludes that approval of the proposed Project, with appropriate mitigating measures, would not constitute a major federal action significantly affecting the quality of the human environment.

The U.S. Army Corps of Engineers, U.S. Environmental Protection Agency, and U.S. Department of Agriculture—Natural Resources Conservation Service participated as cooperating agencies in the preparation of the EA. Cooperating agencies have jurisdiction by law or special expertise with respect to resources potentially affected by the proposal and participate in the NEPA analysis.

The Amendment Project would consist of the following four proposed modifications to the previously approved PennEast Pipeline Project, all in Pennsylvania:

• Saylor Avenue Realignment [Plains Township (Twp.), Luzerne County]—a 0.4-mile-long pipeline realignment between milepost (MP) 8.5R3 and MP 8.9R3 to address construction feasibility and land use impacts;

• Interstate 81 Workspace Adjustment (Plains Twp., Luzerne County)—a revised horizontal directional drill (HDD) design and workspace adjustment between MP 10.0R2 and 10.4R2 due to historic mines;

• Appalachian Trail PPL Electric Utilities Crossing Realignment (Lower Towamensing Twp., Carbon County, Eldred Twp., Monroe County, and Moore Twp., Northampton County)—a 5.5-mile-long pipeline re-route from MP 48.6R2 to MP 53.6R3 to collocate the crossing of the Appalachian National Scenic Trail along an existing utility corridor, relocation of the Blue Mountain Interconnect, and addition of a 0.5-mile-long, 4-inch-diameter Blue Mountain Lateral; and

• Freemansburg Avenue Realignment (Bethlehem Twp., Northampton County)—a 0.6-mile-long pipeline realignment between MP 69.7R3 and MP 70.8R3 and redesign of construction method from HDD to open cut to avoid karst topography.

The Commission mailed a copy of the Notice of Availability to federal, state, and local government representatives and agencies; elected officials; environmental and public interest groups; Native American tribes; potentially affected landowners and other interested individuals and groups; and newspapers and libraries in the Project area. The EA is only available in electronic format. It may be viewed and downloaded from the FERC's website (www.ferc.gov), on the Environmental Documents page (https://www.ferc.gov/industries/gas/enviro/eis.asp). In addition, the EA may be accessed by using the eLibrary link on the FERC's website. Click on the eLibrary link (https://www.ferc.gov/docs-filing/elibrary.asp), click on General Search, and enter the docket number in the “Docket Number” field, excluding the last three digits (i.e. CP19-78). Be sure you have selected an appropriate date range. For assistance, please contact FERC Online Support at FercOnlineSupport@ferc.gov or toll free at (866) 208-3676, or for TTY, contact (202) 502-8659.

Any person wishing to comment on the EA may do so. Your comments should focus on the EA's disclosure and discussion of potential environmental effects, reasonable alternatives, and measures to avoid or lessen environmental impacts. The more specific your comments, the more useful they will be. To ensure that the Commission has the opportunity to consider your comments prior to making its decision on this project, it is important that we receive your comments in Washington, DC on or before 5:00pm Eastern Time on October 21, 2019.

For your convenience, there are three methods you can use to file your comments to the Commission. The Commission encourages electronic filing of comments and has staff available to assist you at (866) 208-3676 or FercOnlineSupport@ferc.gov. Please carefully follow these instructions so that your comments are properly recorded.

(1) You can file your comments electronically using the eComment feature on the Commission's website (www.ferc.gov) under the link to Documents and Filings. This is an easy method for submitting brief, text-only comments on a project;

(2) You can also file your comments electronically using the eFiling feature on the Commission's website (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address. Be sure to reference the project docket number (CP19-78-000) with your submission: Kimberly D. Bose, Secretary, Federal Energy Regulatory Commission, 888 First Street NE, Room 1A, Washington, DC 20426.

Any person seeking to become a party to the proceeding must file a motion to intervene pursuant to Rule 214 of the Commission's Rules of Practice and Procedures (18 CFR 385.214). Motions to intervene are more fully described at http://www.ferc.gov/resources/guides/how-to/intervene.asp. Only intervenors have the right to seek rehearing or judicial review of the Commission's decision. The Commission may grant affected landowners and others with environmental concerns intervenor status upon showing good cause by stating that they have a clear and direct interest in this proceeding which no other party can adequately represent. Simply filing environmental comments will not give you intervenor status, but you do not need intervenor status to have your comments considered.

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Kimberly D. Bose,
Secretary.

[FR Doc. 2019-20914 Filed 9-25-19; 8:45 am]

BILLING CODE 6717-01-P